FARM CREDIT ADMINISTRATION

Privacy Act of 1974; New Routine Uses

AGENCY: Farm Credit Administration.

ACTION: Notice of new routine uses; request for comments.

SUMMARY: The Farm Credit Administration (FCA) proposes to revise an existing system of records titled “Inspector General Investigative Files,” FCA-18, last published in 1992, maintained by FCA's Office of Inspector General (OIG). Two new routine uses are being added to comply with an effort by the President's Council on Integrity and Efficiency (PCIE) and the Executive Council on Integrity and Efficiency (ECIE) to conduct qualitative assessment reviews of investigative operations and for the purpose of reporting to the President and Congress on the activities of the OIG.

DATES: Any interested persons may submit written comments on this proposal by April 5, 2004. It will become effective without further notice on April 5, 2004 unless comments received on or before that date result in a contrary determination.

ADDRESSES: Comments should be submitted to the Counsel to the Inspector General, Office of the Inspector General, Farm Credit Administration, 1501 Farm Credit Drive, McLean, Virginia 22102-5090. You may send comments by e-mail to deane@fca.gov. Copies of all comments we received will be available for review by interested parties at FCA headquarters.

FOR FURTHER INFORMATION CONTACT: Elizabeth M. Dean, Counsel to the Inspector General, Office of the Inspector General, Farm Credit Administration, 1501 Farm Credit Drive, McLean, Virginia 22102-5090, (703) 883-4036, TTY (703) 883-4359.

SUPPLEMENTARY INFORMATION: This publication satisfies the Privacy Act requirement that agencies publish an amended system of records notice in the Federal Register when there is a revision, change, or addition to the system of records. FCA's Office of Inspector General (OIG) has determined to amend FCA-18 to permit disclosure of records for the purpose of assessment reviews. The Homeland Security Act of 2002 (Pub. L. 107-296, Nov. 25, 2002) requires certain Inspectors General to “establish an external review process for ensuring that adequate internal safeguards and management procedures continue to exist within each Office * * *”

The PCIE and the ECIE are establishing peer review processes that are designed to provide qualitative measurement against the Inspector General (IG) community standards to ensure that adequate internal safeguards and management procedures are maintained, foster high-quality investigations and investigative processes, ensure that the highest level of professionalism is maintained, and promote consistency in investigative standards and practices within the IG community. The FCA OIG has committed to undergoing qualitative assessment reviews of its investigations. Proposed routine use (12) will allow disclosure of information to authorized officials within the PCIE, the ECIE, the Department of Justice and the Federal Bureau of Investigation, as necessary, for the purpose of conducting qualitative assessment reviews of the OIG's investigative operations.

Proposed routine use (13) will allow the disclosure of information to the PCIE and the ECIE for their preparation of reports to the President and Congress on the activities of the Inspectors General.

As required by 5 U.S.C. 552a(r) of the Privacy Act, we have notified the Office of Management and Budget, the Committee on Government Reform of the House of Representatives, and the Committee on Governmental Affairs of the Senate of the new routine uses. The notice is published in its entirety below.

FCA-18

SYSTEM NAME:

Inspector General Investigative Files—FCA.

SYSTEM CLASSIFICATION:

None.

SYSTEM LOCATION:

Office of the Inspector General (OIG), Farm Credit Administration, 1501 Farm Credit Drive, McLean, VA 22102-5090.

CATEGORIES OF INDIVIDUALS COVERED BY THE SYSTEM:

Subjects of OIG investigations relating to the programs and operations of the Farm Credit Administration. Subject individuals include, but are not limited to, current and former employees; current and former agents or employees of contractors or subcontractors, as well as current and former contractors and subcontractors in their personal capacity, where applicable; and other individuals whose actions affect the FCA, its programs or operations. Businesses, proprietorships, and corporations are not covered by this system.

CATEGORIES OF RECORDS IN THE SYSTEM:

Correspondence relating to the investigation; internal staff memoranda; copies of subpoenas issued during the investigation, affidavits, statements from witnesses, transcripts of testimony taken in the investigation, and accompanying exhibits; documents, records, or copies obtained during the investigation; interview notes, documents and records relating to the investigation; opening reports, information or data relating to alleged or suspected criminal, civil, or administrative violations or similar wrongdoing by subject individuals.

AUTHORITY FOR MAINTENANCE OF THE SYSTEM:

Inspector General Act Amendments of 1988, Pub. L. 100-504, amending the Inspector General Act of 1978, Pub. L. 95-452, 5 U.S.C. app. 3.

PURPOSE(S):

To document the conduct and outcome of investigations; to report results of investigations to other components of the FCA or other agencies and authorities for their use in evaluating their programs and imposition of criminal, civil, or administrative sanctions; to report the results of investigations to other agencies or other regulatory bodies for an action deemed appropriate, and for retaining sufficient information to fulfill reporting requirements; and to maintain records related to the activities of the Office of the Inspector General.

ROUTINE USES OF RECORDS MAINTAINED IN THE SYSTEM, INCLUDING CATEGORIES OF USERS AND THE PURPOSES OF SUCH USES:

See the “General Statement of Routine Uses.”

DISCLOSURE TO CONSUMER REPORTING AGENCIES:

Disclosures may be made from this system, pursuant to 5 U.S.C. 552a(b)(12), to consumer reporting agencies as defined in the Fair Credit Reporting Act, 15 U.S.C. 1681a(f) or the Federal Claims Collection Act of 1966, 31 U.S.C. 3701(a)(3), in accordance with section 3711(f) of title 31.

POLICIES AND PRACTICES FOR STORING, RETRIEVING, ACCESSING, RETAINING, AND DISPOSING OF RECORDS IN THE SYSTEM:

STORAGE:

The OIG Investigative Files consist of paper records maintained in file folders, cassette tapes of interviews and data maintained on computer diskettes. The folders, diskettes and cassette tapes are stored in file cabinets in the OIG.

RETRIEVABILITY:

The records are retrieved by the name of the subject of the investigation or by a unique control number assigned to each investigation.

SAFEGUARDS:

Records are maintained in lockable file cabinets in lockable rooms. Access is restricted to individuals whose duties require access to the records. File cabinets and rooms are locked during non-duty hours.

RETENTION AND DISPOSAL:

As prescribed in General Records Schedule 22, item 1b, OIG Investigative Files are destroyed 10 years after a case is closed. Cases that are unusually significant for documenting major violations of criminal law or ethical standards are offered to the National Archives for permanent retention.

SYSTEM MANAGER AND ADDRESS:

Inspector General, Farm Credit Administration, 1501 Farm Credit Drive, McLean, VA 22102-5090.

NOTIFICATION PROCEDURE:

Direct all inquiries about this system of records to: Privacy Act Officer, Farm Credit Administration, 1501 Farm Credit Drive, McLean, VA 22102-5090.

RECORD ACCESS PROCEDURES:

Same as above.

CONTESTING RECORD PROCEDURE:

Same as above.

RECORD SOURCES CATEGORIES:

Employees or other individuals on whom the record is maintained, non-target witnesses, FCA and non-FCA records, to the extent necessary to carry out OIG investigations authorized by 5 U.S.C. app.3.

SYSTEM(S) EXEMPTED FROM CERTAIN PROVISIONS OF THE ACT:

Pursuant to 5 U.S.C. 552a(j)(2), records in this system are exempt from the provisions of 5 U.S.C. 552(a), except subsections (b), (c)(1) and (2), (e)(4)(A) through (F), (e)(6), (7), (9), (10), and (11), and (i), and corresponding provisions of 12 CFR 603.355, to the extent a record in the system of records was compiled for criminal law enforcement purposes.

Pursuant to 5 U.S.C. 552a(k)(2), the system is exempt from 5 U.S.C. 552a(c)(3), (d), (e)(1), (e)(4)(G), (H), and (I) and (f), and the corresponding provisions of 12 CFR 603.355, to the extent the system of records consists of investigatory material compiled for law enforcement purposes, other than material within the scope of the exemption at 5 U.S.C. 552a(j)(2). See 12 CFR 603.355, as amended.

FCA-18

(12) A record may be disclosed to any official charged with the responsibility to conduct qualitative assessment reviews of internal safeguards and management procedures employed in investigative operations. This disclosure category includes members of the President's Council on Integrity and Efficiency, Executive Council on Integrity and Efficiency, and officials and administrative staff within their investigative chain of command, as well as authorized officials of the Department of Justice and the Federal Bureau of Investigation.

(13) A record may be disclosed, as a routine use, to members of the President's Council on Integrity and Efficiency and the Executive Council on Integrity and Efficiency for the preparation of reports to the President and Congress on the activities of the Inspectors General.

Dated: February 19, 2004.
Jeanette C. Brinkley,
Secretary, Farm Credit Administration Board.

[FR Doc. 04-4049 Filed 2-24-04; 8:45 am]

BILLING CODE 6705-01-P